DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual Regulatory Agenda.

SUMMARY: This notice provides the semiannual agenda of Department of the Interior (Department) rules scheduled for review or development between Fall 2023 and Fall 2024. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of Executive Secretariat and Regulatory Affairs, Department of the Interior, at the address above or at (202) 208-3181.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects.

This edition of the Unified Agenda of Federal Regulatory and Deregulatory Actions includes The Regulatory Plan, which appears in both the online Unified Agenda and in part II of the Federal Register that includes the Unified Agenda. The Department's Statement of Regulatory Priorities is included in the Plan.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation.

Bivan R. Patnaik,
Deputy Director of Policy and Regulatory Affairs, Executive Secretariat and Regulatory Affairs.

Bureau of Safety and Environmental Enforcement—Proposed Rule Stage
Sequence No. | Title | Regulation Identifier No.
369 | Outer Continental Shelf Civil Penalties, Surety Bond Requirements When Filing an Appeal | 1014-AA57

Bureau of Safety and Environmental Enforcement—Long-Term Actions
Sequence No. | Title | Regulation Identifier No.
370 | Revisions to Decommissioning Requirements on the OCS | 1014-AA53

Bureau of Safety and Environmental Enforcement—Completed Actions
Sequence No. | Title | Regulation Identifier No.
371 | Oil and Gas and Sulfur Operations in the Outer Continental Shelf-Blowout Preventer Systems and Well Control Revisions | 1014-AA52

United States Fish and Wildlife Service—Proposed Rule Stage
Sequence No. | Title | Regulation Identifier No.
372 | Importation, Exportation and Transportation of Wildlife; Updates to the Regulations | 1018-BF16
373 | Migratory Bird Hunting; 2024-25 Migratory Game Bird Hunting Regulations | 1018-BG63
374 | Migratory Bird Hunting; 2025-26 Migratory Game Bird Hunting Regulations | 1018-BH65

United States Fish and Wildlife Service—Completed Actions
Sequence No. | Title | Regulation Identifier No.
375 | Migratory Bird Hunting; 2023-24 Migratory Game Bird Hunting Regulations | 1018-BF64

National Park Service—Final Rule Stage
Sequence No. | Title | Regulation Identifier No.
376 | Commercial Visitor Services; Concession Contracts | 1024-AE57

Bureau of Land Management—Proposed Rule Stage
Sequence No. | Title | Regulation Identifier No.
377 | Management and Protection of the National Petroleum Reserve in Alaska (Section 610 Review) (Reg Plan Seq No. 145) | 1004-AE95
References in boldface appear in The Regulatory Plan in part II of this issue of the Federal Register.

Bureau of Land Management—Final Rule Stage
Sequence No. | Title | Regulation Identifier No.
378 | Conservation and Landscape Health (Section 610 Review) (Reg Plan Seq No. 150) | 1004-AE92
379 | Helium Contracts (Section 610 Review) | 1004-AE93
380 | Onshore Oil and Gas Operations-Annual Civil Penalties Inflation Adjustments (Section 610 Review) | 1004-AE94
References in boldface appear in The Regulatory Plan in part II of this issue of the Federal Register.

DEPARTMENT OF THE INTERIOR (DOI)

Bureau of Safety and Environmental Enforcement (BSEE)

Proposed Rule Stage

369. Outer Continental Shelf Civil Penalties, Surety Bond Requirements When Filing an Appeal [1014-AA57]

Legal Authority: Outer Continental Shelf Lands Act (OCSLA), 43 U.S.C. 1331 to 1356a

Abstract: This proposed rulemaking would clarify BSEE's existing regulatory authority under 30 CFR 250.1409, which establishes criteria that must be met before a party may proceed with an appeal of a civil penalty pursuant to 30 CFR part 290. Before filing an appeal to the Interior Board of Land Appeals (IBLA), an operator must either submit a surety bond to BSEE's sister agency, BOEM, in the amount of the penalty, or notify BOEM that they want their lease bond to be used as the bond for the penalty amount.

Timetable:

Action | Date | FR Cite
NPRM | 11/00/23
NPRM Comment Period End | 01/00/24

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA57

DEPARTMENT OF THE INTERIOR (DOI)

Bureau of Safety and Environmental Enforcement (BSEE)

Long-Term Actions

370. Revisions to Decommissioning Requirements on the OCS [1014-AA53]

Legal Authority: Outer Continental Shelf Lands Act, 43 U.S.C. 1331 to 1356a

Abstract: This proposed rule would address issues relating to (1) idle iron by adding a definition of this term to clarify that it applies to idle wells and structures on active leases; (2) abandonment in place of subsea infrastructure by adding regulations addressing when BSEE may approve decommissioning-in-place instead of removal of certain subsea equipment; and (3) other operational considerations.

Timetable:

Action | Date | FR Cite
NPRM | 12/00/24
NPRM Comment Period End | 02/00/25

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA53

DEPARTMENT OF THE INTERIOR (DOI)

Bureau of Safety and Environmental Enforcement (BSEE)

Completed Actions

371. Oil and Gas and Sulfur Operations in the Outer Continental Shelf-Blowout Preventer Systems and Well Control Revisions [1014-AA52]

Legal Authority: 43 U.S.C. 1331 to 1356a

Abstract: This rulemaking revises the Bureau of Safety and Environmental Enforcement (BSEE) regulations published in the 2019 final rule entitled “Oil and Gas and Sulfur Operations in the Outer Continental Shelf-Blowout Preventer Systems and Well Control Revisions,” 84 FR 21908 (May 15, 2019), for drilling, workover, completion and decommissioning operations. In accordance with Executive Order (E.O.) 13990 (Protecting Public Health and the Environment and Restoring Science to Tackle the Climate Crisis) and the E.O.'s accompanying “President's Fact Sheet: List of Agency Actions for Review,” BSEE reviewed the 2019 final rule and is updating to subpart G of 30 CFR part 250 to ensure operations are conducted safely and in an environmentally responsible manner.

Timetable:

Action | Date | FR Cite
NPRM | 09/14/22 | 87 FR 56354
NPRM Comment Period End | 11/14/22
Final Action | 08/23/23 | 88 FR 57334
Final Action Effective | 10/23/23

Regulatory Flexibility Analysis Required: Yes.

Agency Contact: Kirk Malstrom, Chief, Regulations and Standards Branch, Department of the Interior, Bureau of Safety and Environmental Enforcement, 45600 Woodland Road, Sterling, VA 20166 Phone: 703 787-1751, Fax: 703 787-1555, Email: kirk.malstrom@bsee.gov.

RIN: 1014-AA52

DEPARTMENT OF THE INTERIOR (DOI)

United States Fish and Wildlife Service (FWS)

Proposed Rule Stage

372. Importation, Exportation and Transportation of Wildlife; Updates to the Regulations [1018-BF16]

Legal Authority: 16 U.S.C. 33 8(d)-(f); 16 U.S.C. 668; 16 U.S.C. 704; 16 U.S.C. 712; 16 U.S.C. 1382; 16 U.S.C. 1538(d)-(f); 16 U.S.C. 1540(f); 16 U.S.C. 3371 to 3378; 16 U.S.C. 4223 to 4244; 16 U.S.C. 4901 to 4916; 18 U.S.C. 42; 31 U.S.C. 42; 31 U.S.C. 9701; . . .

Abstract: This proposed rule would revise FWS's regulations governing the importation and exportation of wildlife. In this rulemaking, FWS would review all sections of 50 CFR part 14 and provide necessary revisions.

Timetable:

Action | Date | FR Cite
NPRM | 03/00/24

Regulatory Flexibility Analysis Required: Yes.

Agency Contact: Edward Grace, Assistant Director, Office of Law Enforcement, Department of the Interior, United States Fish and Wildlife Service, 5275 Leesburg Pike, MS: LEO, Falls Church, VA 22041-3803 Phone: 703 358-1949, Fax: 703 358-1947, Email: edward_grace@fws.gov.

RIN: 1018-BF16

373. Migratory Bird Hunting; 2024-25 Migratory Game Bird Hunting Regulations [1018-BG63]

Legal Authority: 16 U.S.C. 703 et seq.; 16 U.S.C. 742a-j

Abstract: This rulemaking action would establish annual hunting regulations for certain migratory game birds. FWS annually prescribes the frameworks, or outside limits, for season lengths, bag limits, and areas for migratory game bird hunting. After these frameworks are established, States and Tribes may select season dates, bag limits, and other regulatory options for their hunting seasons.

Timetable:

Action | Date | FR Cite
NPRM | 11/00/23

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BG63

374. • Migratory Bird Hunting; 2025-26 Migratory Game Bird Hunting Regulations [1018-BH65]

Legal Authority: 16 U.S.C. 703 et seq.; 16 U.S.C. 742a-j

Abstract: This rulemaking action would establish annual hunting regulations for certain migratory game birds. FWS annually prescribes the frameworks, or outside limits, for season lengths, bag limits, and areas for migratory game bird hunting. After these frameworks are established, States and Tribes may select season dates, bag limits, and other regulatory options for their hunting seasons.

Timetable:

Action | Date | FR Cite
NPRM | 06/00/24

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BH65

DEPARTMENT OF THE INTERIOR (DOI)

United States Fish and Wildlife Service (FWS)

Completed Actions

375. Migratory Bird Hunting; 2023-24 Migratory Game Bird Hunting Regulations [1018-BF64]

Legal Authority: 16 U.S.C. 703 et seq.; 16 U.S.C. 742a-j

Abstract: This rulemaking action established annual hunting regulations for certain migratory game birds. FWS annually prescribes the frameworks, or outside limits, for season lengths, bag limits, and areas for migratory game bird hunting. After these frameworks are established, States and Tribes may select season dates, bag limits, and other regulatory options for their hunting seasons.

Timetable:

Action | Date | FR Cite
NPRM | 11/03/22 | 87 FR 66247
NPRM Comment Period End | 12/05/22
Proposed Frameworks | 01/30/23 | 88 FR 6054
Proposed Frameworks; Comment Period End | 03/01/23
Proposed Tribal Regulations | 03/23/23 | 88 FR 17511
Proposed Tribal Regulations; Comment Period Ends | 05/08/23
Final Frameworks | 08/11/23 | 88 FR 54830
Final Frameworks Effective | 08/11/23
Seasons and Bag Limits | 08/18/23 | 88 FR 56489
Seasons and Bag Limits Effective | 08/18/23
Final Tribal Regulations | 09/01/23 | 88 FR 60375
Final Tribal Regulations Effective | 09/01/23

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BF64

DEPARTMENT OF THE INTERIOR (DOI)

National Park Service (NPS)

Final Rule Stage

376. Commercial Visitor Services; Concession Contracts [1024-AE57]

Legal Authority: 54 U.S.C. 101926

Abstract: This final rule revises regulations that govern the solicitation, award, and administration of concessions contracts to provide commercial visitor services at National Park System units under the authority granted to the Secretary of the Interior by the Concessions Management Improvement Act of 1998 and the National Park Service Centennial Act. The revisions reduce administrative burdens and expand opportunities for sustainable, high quality, and contemporary concessioner-provided visitor services in park areas.

Timetable:

Action | Date | FR Cite
NPRM | 07/20/20 | 85 FR 43775
NPRM Comment Period End | 09/18/20
Final Rule | 11/00/23

Regulatory Flexibility Analysis Required: Yes.

Agency Contact: Kurt M. Rausch, Chief, Contract Management, Department of the Interior, National Park Service, 1849 C Street NW, Washington, DC 20240, Phone: 202 513-7207. Email: kurt_rausch@nps.gov.

RIN: 1024-AE57

DEPARTMENT OF THE INTERIOR (DOI)

Bureau of Land Management (BLM)

Proposed Rule Stage

377. Management and Protection of the National Petroleum Reserve in Alaska (Section 610 Review) [1004-AE95]

Regulatory Plan: This entry is Seq. No. 145 in part II of this issue of the Federal Register.

RIN: 1004-AE95

DEPARTMENT OF THE INTERIOR (DOI)

Bureau of Land Management (BLM)

Final Rule Stage

378. Conservation and Landscape Health (Section 610 Review) [1004-AE92]

Regulatory Plan: This entry is Seq. No. 150 in part II of this issue of the Federal Register.

RIN: 1004-AE92

379. Helium Contracts (Section 610 Review) [1004-AE93]

Legal Authority: 50 U.S.C. 167d (d)(1)

Abstract: The Department of the Interior, Bureau of Land Management is implementing the Helium Stewardship Act of 2013, which requires the disposal of the Federal Helium System and cessation of the In-Kind Program.

Timetable:

Action | Date | FR Cite
Final Action | 11/00/23

Regulatory Flexibility Analysis Required: No.

Agency Contact: Amy Hay, Division Chief, Division of Business Resources, Department of the Interior, Bureau of Land Management, Denver Federal Center, Building 50, Denver, CO 80225-0047, Phone: 703 870-8844, Email: ahay@blm.gov.

RIN: 1004-AE93

380. Onshore Oil and Gas Operations—Annual Civil Penalties Inflation Adjustments (Section 610 Review) [1004-AE94]

Legal Authority: Federal Land Policy and Management Act of 1976 (FLPMA), 43 U.S.C. 1734

Abstract: This annual rule adjusts the level of civil monetary penalties contained in the Bureau of Land Management's (BLM) regulations governing onshore oil and gas operations and coal trespass as required by the Federal Civil Penalties Inflation Adjustment Act Improvements Act of 2015.

Timetable:

Action | Date | FR Cite
Final Action | 01/00/24

Regulatory Flexibility Analysis Required: No.

Agency Contact: Kyle W. Moorman, Division Chief for Regulatory Affairs and Directives, Department of the Interior, Bureau of Land Management, 1849 C Street NW, Washington, DC 20240, Phone: 202 527-2433, Email: kmoorman@blm.gov.

RIN: 1004-AE94

[FR Doc. 2024-00448 Filed 2-8-24; 8:45 am]

BILLING CODE 4334-63-P